NUCLEAR REGULATORY COMMISSION

[Docket Nos. 50-387-LR and 50-388-LR; ASLBP No. 07-851-01-LR-BD01]

PPL Susquehanna LLC; Establishment of Atomic Safety and Licensing Board

Pursuant to delegation by the Commission dated December 29,1972, published in the Federal Register, 37 FR 28,710 (1972), and the Commission's regulations, see 10 CFR 2.104, 2.300, 2.303, 2.309, 2.311, 2.318, and 2.321, notice is hereby given that an Atomic Safety and Licensing Board is being established to preside over the following proceeding:

PPL Susquehanna LLC

(Susquehanna Steam Electric Station, Units 1 and 2)

A Licensing Board is being established pursuant to a November 2, 2006 notice of opportunity for hearing (71 FR 64,566) regarding the September 13, 2006 application for renewal of Operating License Nos. NPF-14 and NFP-22, which authorize PPL Susquehanna LLC (PPL) to operate the Susquehanna Steam Electric Station (SSES), Units 1 and 2, at 3489 megawatts thermal. The PPL renewal application seeks to extend the current operating licenses—which expire on July 17, 2022, and March 23, 2024, for Units 1 and 2 respectively—for an additional twenty years. This proceeding concerns the January 2, 2007 request for hearing/petition to intervene filed by Mr. Eric Joseph Epstein.

The Board is comprised of the following administrative judges:

Ann Marshall Young, Chair, Atomic Safety and Licensing Board Panel, U.S. Nuclear Regulatory Commission, Washington, DC 20555-0001.

Dr. Kaye D. Lathrop, Atomic Safety and Licensing Board Panel, U.S. Nuclear Regulatory Commission, Washington, DC 20555-0001.

Dr. William W. Sager, Atomic Safety and Licensing Board Panel, U.S. Nuclear Regulatory Commission, Washington, DC 20555-0001.

All correspondence, documents, and other materials shall be filed with the administrative judges in accordance with 10 CFR 2.302.

Issued at Rockville, Maryland, this 18th day of January 2007.
E. Roy Hawkens,
Chief Administrative Judge, Atomic Safety and Licensing Board Panel.

[FR Doc. E7-975 Filed 1-23-07; 8:45 am]

BILLING CODE 7590-01-P